DEPARTMENT OF TRANSPORTATION

Federal Aviation Administration

Notice of Opportunity for Public Comment on Proposed Land Use Changes at Mobile International Airport (BFM) Located in Mobile, Alabama

AGENCY: Federal Aviation Administration, DOT.

ACTION: Request for public comments.

SUMMARY: Notice is being given that the FAA is considering a request from the Mobile Airport Authority to waive the requirement that a 0.95± parcel of property, located on Mobile International Airport (BFM) in Mobile, Alabama, be used for aeronautical purposes.

DATES: Comments must be received on or before January 17, 2023.

ADDRESSES: The public may send comments using the following methods:

• Federal eRulemaking Portal: Go to http://www.regulations.gov, and follow the instructions on providing comments.

• Fax: 601-664-9901.

• Mail: Matt Mims, Program Manager, Jackson Airports District Office, 100 West Cross St., Suite B, Jackson, MS 39208-2307.

• Hand Delivery: Deliver to mail address above between 8 a.m. and 5 p.m. Monday through Friday, excluding Federal holidays.

In addition, one copy of any comments submitted to the FAA must be mailed or delivered to Mobile Airport Authority Attn: Mr. Chris Curry at the Mobile Airport Authority, 1891 9th Street, Mobile, Alabama 36615.

FOR FURTHER INFORMATION CONTACT: Matt Mims, Program Manager, Jackson Airports District Office, 100 West Cross Street, Suite B, Jackson, MS 39208-2307, (601) 664-9893. The land release request may be reviewed in person at this same location.

SUPPLEMENTARY INFORMATION: The FAA is reviewing a request by the Mobile Airport Authority to release approximately 0.95± acres of airport property at Mobile International Airport (BFM) under the provisions of Title 49, U.S.C. 47153(c). The FAA determined that the request to release property at Mobile International Airport (BFM) submitted by the Sponsor meets the procedural requirements of the Federal Aviation Administration and the release of the property does not and will not impact future aviation needs at the airport. An easement on the property will be purchased by Elcan & Associates, Inc. in order to build an access roadway and right-of-way, who also owns the adjacent site directly south. The property is located on the southwest side of airport property adjacent to Runway 14/32. The airport will receive fair market value for the easement and right-of-way, and the net proceeds from the sale will be used for maintenance and operations at the Mobile International Airport (BFM).

The proposed use of this property is compatible with airport operations. Copies of the Property Appraisal, Boundary Survey, and Legal Description are available for examination by appointment. Any person may inspect the request in person at the FAA office listed above under FOR FURTHER INFORMATION CONTACT.

In addition, any person may, upon request, inspect the request, notice and other documents germane to the request in person at the Mobile Airport Authority, 1891 9th Street, Mobile, Alabama 36615.

Issued in Jackson, Mississippi on December 12, 2022.
Rans D. Black,
Manager, Jackson Airports District Office Southern Region.

[FR Doc. 2022-27230 Filed 12-14-22; 8:45 am]

BILLING CODE 4910-13-P